DEPARTMENT OF TRANSPORTATION

Federal Highway Administration

[Docket No. FHWA-2007-27487]

Agency Information Collection Activities: Request for Comments for a New Information Collection

AGENCY: Federal Highway Administration (FHWA), DOT.

ACTION: Notice and request for comments.

SUMMARY: The FHWA invites public comments about our intention to request the Office of Management and Budget's (OMB) approval for a new information collection, which is summarized below under Supplementary Information. We are required to publish this notice in the Federal Register by the Paperwork Reduction Act of 1995.

DATES: Please submit comments by May 8, 2007.

ADDRESSES: You may submit comments identified by DOT DMS Docket Number FHWA-2007-27487 by any of the following methods:

• Web Site: http://dms.dot.gov. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

Docket: For access to the docket to read background documents or comments received, go to http://dms.dot.gov at any time or to Room 401 on the plaza level of the Nassif Building, 400 Seventh Street, SW., Washington, DC, between 9 a.m. and 5 p.m., Monday through Friday, except Federal holidays.

FOR FURTHER INFORMATION CONTACT: For information regarding the Eisenhower Transportation Fellowship Program, contact Gwen Sutton, 703-235-0535, Office of Professional and Corporate Development, Federal Highway Administration, Department of Transportation, 4600 N. Fairfax Drive, Suite 800, Arlington, VA 22203. Office hours are from 8 a.m. to 5 p.m., Monday through Friday, except Federal holidays. For information regarding the National Highway Institute, contact Ann Gretter, 703-235-1260 or Heather Shelsta, 703-934-3436, National Highway Institute, Federal Highway Administration, Department of Transportation, 4600 N. Fairfax Drive, Suite 800, Arlington, VA 22202. Office hours are from 8 a.m. to 5 p.m., Monday through Friday, except Federal holidays.

SUPPLEMENTARY INFORMATION: Title: Education and Training Program.

Background: The Education and Training Program is comprised of two programs, the Eisenhower Transportation Fellowship and the National Highway Institute (NHI). The Eisenhower Transportation Fellowship is currently authorized by Public Law 109-59, the Safe, Accountable, Flexible, Efficient Transportation Equity Act: A Legacy for Users of 2005 (SAFETEA-LU). The purpose of the fellowship is to advance transportation education and research, and attract qualified students to the field of transportation. The Eisenhower Transportation Fellowship allows for the collection and analysis of vital program information from student transportation education programs, also serving as a management tool to measure program performance and evaluate effectiveness in meeting federal intent and workforce development common goals and objectives. An application form is used to collect basic information from the student to determine eligibility and qualifications for fellowship. The NHI is authorized under Section 5204 of the Safe, Accountable, Flexible, Efficient Transportation Equity Act: A Legacy for Users of 2005 (SAFETEA-LU) which calls for the development and delivery of courses for the transportation community and requires the involvement and satisfaction measurement of transportation partners. One vital component involved in reaching those goals is providing training pertaining to highway activities, making sure that professionals and members of the public have access to the best, most accurate information. Towards this goal, the NHI develops and implements applicable training programs. To manage this increasingly complex task and to make the training process more accessible and useful, NHI is currently planning an automated online training management tool—the NHI Web Portal. The training evaluation and registration forms collect basic participant data for recordkeeping and basic course and instructor evaluation information for customer feedback about what NHI is doing well and what we need to improve.

Respondents: Approximately 200 students submit applications for the Eisenhower Transportation Fellowship and approximately 20,000 students for the NHI.

Frequency: The Eisenhower Transportation Fellowship frequency is annually. The NHI is by learning session.

Estimated Average Burden per Response: The estimated burden to complete the application for the Eisenhower Transportation Fellowship is 3 hours. The estimated burden to complete each training evaluation and registration for the NHI form is 3 minutes.

Estimated Total Annual Burden Hours: Approximately 1,600 hours annually.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued On: March 2, 2007.
James R. Kabel,
Chief, Management Programs and Analysis Division.

FR Doc. E7-4216 Filed 3-8-07; 8:45 am]

BILLING CODE 4910-22-P